ENVIRONMENTAL PROTECTION AGENCY

[FRL-9969-84-OW]

Clean Water Act; Contractor Access to Confidential Business Information

AGENCY: Environmental Protection Agency (EPA).

ACTION: Notice of intended transfer of Confidential Business Information to contractor and its subcontractors.

SUMMARY: The Environmental Protection Agency (EPA) intends to transfer confidential business information (CBI) collected from numerous industries under a newly awarded contract to Eastern Research Group (ERG) and its subcontractors. Transfer of this information is necessary for ERG to assist the Office of Water in the preparation of effluent guidelines and standards and with its effluent guidelines planning and review activities. Much of the information being transferred was or will be collected under the authority of section 308 of the Clean Water Act (CWA). Interested persons may submit comments on this intended transfer of information to the address noted below.

DATES: Comments on the transfer of data are due November 14, 2017.

ADDRESSES: Comments may be sent to M. Ahmar Siddiqui, Document Control Officer, Engineering and Analysis Division (4303T), U.S. EPA, 1200 Pennsylvania Ave. NW., Washington, DC 20460.

FOR FURTHER INFORMATION CONTACT: M. Ahmar Siddiqui, Document Control Officer, at (202) 566-1044, or via email at siddiqui.ahmar@epa.gov.

SUPPLEMENTARY INFORMATION: EPA has transferred CBI to various contractors and subcontractors over the history of the effluent guidelines program under 40 CFR 2.302(h). EPA determined that this transfer was necessary to enable the contractors and subcontractors to perform their work in supporting EPA in planning, developing, and reviewing effluent guidelines and standards for certain industries.

Today, pursuant to 40 CFR 2.302(h)(2), EPA is giving notice that it has entered into a new contract with ERG, contract number EP-C-17-041, located in Chantilly, Virginia. The purpose of this contract is to secure technical and engineering analysis support for EPA in its development, review, implementation, and defense of water-related initiatives for a variety of industries. To obtain assistance in responding to this contract, ERG has entered into contracts with the following subcontractors and consultant: PG Environmental, LLC (located in Chantilly, Virginia and Golden, Colorado), Great Lakes Environmental Center (located in Traverse City, Michigan and Columbus, Ohio), LimnoTech (located in Ann Arbor, Michigan), Mabbett & Associates, Inc. (located in Bedford, Massachusetts), RESPEC Consulting and Services (located in Mountain View, California), The Water Planet Company (located in New London, Connecticut), and Jack Martin (located in Georgetown, Delaware).

All EPA contractor, subcontractor, and consultant personnel are bound by the requirements and sanctions contained in their contracts with EPA and in EPA's confidentiality regulations found at 40 CFR part 2, subpart B. ERG will adhere to an EPA-approved security plan which describes procedures to protect CBI. ERG will apply the procedures in this plan to CBI previously gathered by EPA and to CBI that may be gathered in the future. The security plan specifies that contractor personnel are required to sign non-disclosure agreements and are briefed on appropriate security procedures before they are permitted access to CBI. No person is automatically granted access to CBI: A need to know must exist.

The information that will be transferred to ERG consists of information previously collected by EPA to support the development and review of effluent limitations guidelines and standards under the CWA and that EPA had transferred to ERG under a previous contract with them. In particular, information, including CBI, collected for the planning, development, and review of effluent limitations guidelines and standards for the following industries may be transferred to ERG under the new contract: Airport deicing; aquaculture; centralized waste treatment; coal bed methane; concentrated animal feeding operations; coal mining; construction and development; drinking water treatment; industrial container and drum cleaning; industrial laundries; industrial waste combustors; iron and steel manufacturing; landfills; meat and poultry products; metal finishing; metal products and machinery; nonferrous metals manufacturing; oil and gas extraction (including coalbed methane); ore mining and dressing; organic chemicals, plastics, and synthetic fibers; pesticide chemicals; petroleum refining; pharmaceutical manufacturing; pulp, paper, and paperboard manufacturing; shale gas extraction; steam electric power generation; textile mills; timber products processing; tobacco; transportation equipment cleaning; and other industrial categories that EPA has reviewed as part of its CWA required annual review activities.

EPA also intends to transfer to ERG all information listed in this notice, of the type described above (including CBI) that may be collected in the future under the authority of section 308 of the CWA or voluntarily submitted (e.g., in comments in response to a Federal Register notice), as is necessary to enable ERG to carry out the work required by its contract to support EPA's effluent guidelines planning and review process and the development of effluent limitations guidelines and standards.

Dated: November 3, 2017.
Deborah G. Nagle,
Acting Director, Office of Science and Technology, Office of Water.

[FR Doc. 2017-24427 Filed 11-8-17; 8:45 am]

BILLING CODE 6560-50-P